DEPARTMENT OF AGRICULTURE

Forest Service

Stanislaus National Forest, Mi-Wok Ranger District, California, Great Hunt Reforestation and Release Project

AGENCY: Forest Service, USDA.

ACTION: Notice of intent.

SUMMARY: The Stanislaus National Forest is in the process of preparing an environmental analysis for the Great Hunt Reforestation and Release Project. This project is being planned on National Forest lands encompassing portions of the Groveland, Mi-Wok and Summit Ranger Districts. The proposal to be analyzed consists of conducting site preparation, planting, and plantation release treatments using a combination of methods on approximately 2330 acres. Treatments will include backpack application of the herbicide glyphosate on approximately 545 acres; mechanically shredding or hand cutting competing vegetation on 1,655 acres with follow-up glyphosate applications on 1,530 acres; and burning and hand cutting competing vegetation with follow up glyphosate applications on 30 acres. Treatments are designed to assure adequate survival and growth of planted conifers by reducing competing vegetation.

The goals tied to this project in the Stanislaus National Forest Plan Direction 2005 (STF FPD) are to increase the frequency of large trees, improve the continuity and distribution of old forests, and restore forest species composition and structure following large scale, stand-replacing disturbance events (STF FPD page 9). The areas under consideration for management activities are old timber harvest units, as well as areas burned by the following wildfires: Granite Fire, 1973; River Fire, 1987; Cotton Fire, 1990; Ruby Fire, 1992; and Creek Fire, 1994. In areas identified for site preparation and planting, natural regeneration of conifer seedlings following the harvest or fire disturbance events is inadequate due to rapid and vigorous growth of competing vegetation and the lack of a seed source in some areas (STF FPD page 146, Standard and Guideline 15-J: “Reforest all openings in available, capable, and suitable lands for timber production created by timber harvest, wind, fire, or insect and disease pests (36 CFR 219.27(b)(2))”). These areas are not on track to meet the goals of the STF FPD. As such, the benefits of a forested environment, and all the associated benefits of forest structure have not occurred.

Decision to be Made: The decision to be made is whether to implement the proposed action as described above, to meet the purpose and need for action through some other combination of activities, or to take no action at this time.

Scoping Process: Comments concerning the scope of the analysis should be received in writing within 15 days of the date of publication of this Notice of Intent in the Federal Register.

The project was initially listed in the Forest's July and October 2005 quarterly edition of the Schedule of Proposed Actions (SOPA). Scoping letters were sent in September 1, 2005 to those who responded to the SOPA and to other identified interested and affected individuals and government agencies. In the SOPA, the mode of environmental documentation was predicted as an environmental assessment.

It has now been determined that the environmental analysis will be documented in an environmental impact statement. Since there are no changes being made to the proposed action that was previously scoped, the scoping period at this point is brief. Scoping letters previously received by the Forest Service from the first scoping period will continue to be used for this process. A public scoping meeting is not anticipated at this time.

The scoping process will be used to identify issues regarding the proposed action. An issue is defined as a point of dispute, debate, or disagreement related to a specific proposed action based on its anticipated effects. Significant issues brought to our attention are used during environmental analysis to develop alternatives to the proposed action. Some issued raised in scoping may be considered non-significant because they are: (1) Beyond the scope of the proposed action and its purpose and need; (2) already decided by law, regulation, or the Land and Resource Management Plan; (3) irrelevant to the decision to be made; or (4) conjectural and not supported by scientific or factual evidence.

Alternatives: Alternatives proposed to date are the Proposed Action as described above and the No Action.

Identification of Permits or Licenses Required: No permits or licenses have been identified to implement the proposed action.

Lead, Joint Lead, and Cooperating Agencies: The USDA Forest Service is the lead agency for this proposal; there are no cooperating agencies.

Estimated Dates for Filing: The expected filing date with the Environmental Protection Agency for the draft EIS is March 1, 2006. The expected filing date for the final EIS is July 1, 2006.

Person to Whom Comments May Be Mailed: Comments may be submitted to: District Ranger, Mi-Wok Ranger District, P.O. Box 100, Mi-Wuk Village, CA 95346 or (209) 586-0643 (fax) during normal business hours. The Mi-Wok Ranger District business hours are from 8 a.m. to 4:30 p.m Monday through Friday. Electronic comments, in acceptable plain text (.txt), rich text (.rtf), or Word (.doc) formats, may be submitted to: mgmelin@fs.fed.us using Subject: Great Hunt Reforestation and Release Project.

Reviewer's Obligation to Comment: The comment period on the draft EIS will be 45 days from the date the Environmental Protection Agency publishes the notice of availability of the draft EIS in the Federal Register.

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns with the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Further Information: Marty Gmelin, Interdisciplinary Team Leader may be contacted by phone at (209) 586-3234 ex. 629 for more information about the proposed action and the environmental impact statement or at the Mi-Wok Ranger District, P.O. Box 100, Mi-Wuk Village, CA 95348.

Responsible Official and Mailing Address: Tom Quinn, Forest Supervisor, 19777 Greenly Road, Sonora, CA 95370.

Dated: November 22, 2005
Tom Quinn,
Forest Supervisor, Stanislaus National Forest.

[FR Doc. 05-23426 Filed 11-28-05; 8:45 am]

BILLING CODE 5410-99- M